DEPARTMENT OF COMMERCE

National Oceanic and Atmospheric Administration

[RTID 0648-XA156]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet June 1, 2020 through June 5, 2020, and June 8, 2020 through June 10, 2020 via web conference.

DATES: The Council's Scientific and Statistical Committee (SSC) will begin at 8:30 a.m. on Monday, June 1, 2020 and continue through Wednesday, June 3, 2020. The Council's Advisory Panel (AP) will begin at 8:30 a.m. on Thursday, June 4, 2020 and continue through Friday, June 5, 2020. The Council will begin its plenary session at 8:30 a.m. on Monday, June 8, 2020 continuing through Wednesday, June 10, 2020.

ADDRESSES: The meeting will be a web conference. Join online through the link at http://meetings.npfmc.org/Meeting/Details/1443.

Council address: North Pacific Fishery Management Council, 1007 W 3rd Ave. Anchorage, AK 99501-2252; telephone: (907) 271-2809. Instructions for attending the meeting via web conference are given under Connection Information, below.

FOR FURTHER INFORMATION CONTACT: Diana Evans, Council staff; email: diana.evans@noaa.gov. For technical support please contact our administrative staff, email: npfmc.admin@noaa.gov.

Please note that if additional changes to the June Council meeting are required as a result of the evolving public health situation regarding COVID-19, Council staff will post notice of any changes prominently on our website: https://www.npfmc.org/. Potential meeting participants are encouraged to check the Council's website frequently for such information and updates.

SUPPLEMENTARY INFORMATION:

Agenda

Monday, June 1, 2020 Through Wednesday, June 3, 2020

The SSC agenda will include the following issues:

(1) Alaska Fishery Science Center Report

(2) Scallop SAFE Report—ABC/OFL Specifications

(3) BSAI Crab AIGKC, PIGKC, WAIRKC—ABC/OFL Specifications

(4) Cook Inlet Salmon FMP Amendment—Preliminary Review

(5) Observer update with respect to Covid-19 response

(6) Sablefish apportionment workshop—Report

(7) EFH 5-year review modeling workplan—Report

(8) Marine Mammal conservation status—Report (tentative)

In addition to providing ongoing scientific advice for fishery management decisions, the SSC functions as the Council's primary peer review panel for scientific information, as described by the Magnuson-Stevens Act section 302(g)(1)(e), and the National Standard 2 guidelines (78 FR 43066). The peer review process is also deemed to satisfy the requirements of the Information Quality Act, including the OMB Peer Review Bulletin guidelines.

Thursday, June 4, 2020 Through Friday, June 5, 2020

The Advisory Panel agenda will include the following issues:

(1) Scallop SAFE Report—ABC/OFL Specifications

(2) BSAI Crab AIGKC, PIGKC, WAIRKC—ABC/OFL Specifications

(3) St Matthew Blue King Crab Rebuilding Plan—Final Action

(4) Cook Inlet Salmon FMP Amendment, CISC report—Preliminary Review

(5) Observer update with respect to Covid-19 response, FMAC Report

Monday, June 8, 2020 Through Wednesday, June 10, 2020

Council Plenary Session: The agenda for the Council's plenary session will include the following issues. The Council may take appropriate action on any of the issues identified.

(1) Executive Director's Report

(2) NMFS Management Report

(3) Alaska Fisheries Science Center Report

(4) NOAA GC Report

(5) NOAA Enforcement Report

(6) ADF&G Report

(7) USCG Report

(8) USFWS Report

(9) SSC Report (in full)

(10) AP Report (in full)

(11) Scallop SAFE Report—ABC/OFL Specifications

(12) BSAI Crab AIGKC, PIGKC, WAIRKC—ABC/OFL Specifications

(13) St Mathew Blue King Crab Rebuilding Plan—Final Action

(14) Cook Inlet Salmon FMP Amendment, CISC Report—Preliminary Review

(15) Observer update with respect to Covid-19 response—FMAC Report

(16) Committees, New Business, Tasking—Review

Connection Information

You can attend the meeting online using a computer, tablet, or smart phone; or by phone only. Connection information will be posted online at: https://meetings.npfmc.org/Meeting/Details/1443. For technical support please contact our administrative staff, email: npfmc.admin@noaa.gov.

Public Comment

Public comment letters will be accepted and should be submitted electronically to: https://meetings.npfmc.org/Meeting/Details/1443. The Council strongly encourages written public comment for this meeting, to avoid any potential for technical difficulties to compromise oral testimony. The deadline for written comments is June 7, 2020, at 12 p.m. Alaska Time.

Special Accommodations

These meetings are physically accessible to people with disabilities. Requests should be directed to Shannon Gleason at (907) 903-3107 at least 7 working days prior to the meeting date.

(Authority: 16 U.S.C. 1801 et seq.)

Dated: May 7, 2020.
Tracey L. Thompson,
Acting Deputy Director, Office of Sustainable Fisheries, National Marine Fisheries Service.

[FR Doc. 2020-10209 Filed 5-12-20; 8:45 am]

BILLING CODE 3510-22-P